NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: February 2, 2006, 8:30 a.m.-5:30 p.m. and February 3, 2006, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230. Telephone: (703) 292-8040. mtolbert@nsf.gov.

Minutes: May be obtained from the Executive Liaison at the above address.

Purpose of Meeting: To provide advice and recommendations concerning broadening participation in science and engineering.

Agenda

Thursday, February 2, 2006

Welcome and Opening Statement by the CEOSE Chair

Introductions

Review of the CEOSE Meeting Agenda and Minutes

Topics for Discussions/Presentations/Reports:

OSTP/NSF/CEOSE Multi-Federal Agency Meeting Held December 20, 2005

CEOSE Subcommittee Activities

Institutional Transformation

Representation of Persons with Disabilities

Plans for the CEOSE Biennial Report

Discussion with NSF Director and/or Deputy Director

Friday, February 3, 2006

Opening Statement by the CEOSE Chair

Discussions/Presentations:

Subcommittee Deliberations and Reports

Report of CEOSE Liaisons to National Science Foundation Advisory Committees

Completion of Unfinished Business

Dated: January 10, 2006.
Susanne Bolton,
Committee Management Officer.

[FR Doc. 06-334 Filed 1-12-06; 8:45 am]

BILLING CODE 7555-01-M